FEDERAL ELECTION COMMISSION

Sunshine Act Notices

AGENCY: Federal Election Commission.

Date and Time: Thursday, January 14, 2010, at 10 a.m.

Place: 999 E Street, NW., Washington, DC (Ninth Floor).

Status: This meeting will be open to the public.

Items To Be Discussed

Correction and Approval of Minutes Draft Advisory Opinion 2009-27: American Future Fund Political Action by its counsel, Jason Torchinsky.

Draft Advisory Opinion 2009-29: Retiree Support Group of Contra Costa County by its counsel, L. Douglas Pipes.

Management and Administrative Matters

Individuals who plan to attend and require special assistance, such as sign language interpretation or other reasonable accommodations, should contact Darlene Harris, Deputy Commission Secretary, at (202) 694-1040, at least 72 hours prior to the hearing date.

Person to Contact for Information: Judith Ingram, Press Officer, Telephone: (202) 694-1220.

Darlene Harris,
Deputy Secretary of the Commission.

[FR Doc. 2010-411 Filed 1-12-10; 8:45 am]

BILLING CODE 6715-01-M